Title 3—

The President

Memorandum of January 6, 2025

Withdrawal of Certain Areas of the United States Outer Continental Shelf From Oil or Natural Gas Leasing

Memorandum for the Secretary of the Interior

Consistent with principles of responsible public stewardship, and with due consideration of the irreplaceable marine and coastal environments, including wildlife and wildlife habitat, of the Bering Sea; and independently with due consideration of the vulnerability of these ecosystems and coastal communities, where limited or no oil and natural gas development has yet occurred, to oil spills; and independently with due consideration of the national need to curtail, mitigate, build resilience against, and adapt to the devastating and irreversible consequences of climate change for the human environment and for the marine and coastal environments, I hereby direct as follows:

Under the authority granted to me in section 12(a) of the Outer Continental Shelf Lands Act, 43 U.S.C. 1341(a), I hereby withdraw from disposition by oil or natural gas leasing for a time period without specific expiration the remaining areas that are part of the Northern Bering Sea Climate Resilience Area, designated in Executive Order 13754 of December 9, 2016 (Northern Bering Sea Climate Resilience), and that are not currently withdrawn from disposition by leasing. The Northern Bering Sea Climate Resilience Area includes waters within the United States Exclusive Economic Zone bounded to the north by the seaward boundary of the Bering Straits Native Corporation established pursuant to the Alaska Native Claims Settlement Act (43 U.S.C. 1601 et seq.); to the south by the southern boundaries of the Northern Bering Sea Research Area, the St. Matthew Habitat Conservation Area, and the Nunivak-Kuskokwim Habitat Conservation Area; and to the west by the maritime boundary delimited by the Agreement Between the United States of America and the Union of Soviet Socialist Republics on the Maritime Boundary, signed at Washington, June 1, 1990. This withdrawal does not affect the prior withdrawal made in the Norton Basin Planning Area by Executive Order 13754, or the withdrawal of the North Aleutian Planning Area by the Presidential Memorandum of December 16, 2014 (Withdrawal of Certain Areas of the United States Outer Continental Shelf from Leasing Disposition).

The boundaries of the withdrawn areas are more specifically delineated in the attached map. The map forms a part of this memorandum. The withdrawal directed by this memorandum prevents consideration of the withdrawn areas for any future oil or natural gas leasing for purposes of exploration, development, or production.

Nothing in this withdrawal affects rights under existing leases in the withdrawn areas.

THE WHITE HOUSE,

Washington, January 6, 2025

Billing code 3395-F4-P

[FR Doc. 2025-01463

Filed 1-16-25; 2:00 pm]

Billing code 4310-10-C